DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2004 Overseas Enumeration Test.

Form Number(s): DO-1.

Agency Approval Number: None.

Type of Request: New collection.

Burden: 75,000 hours.

Number of Respondents: 450,000.

Avg Hours Per Response: 10 minutes.

Needs and Uses: The U.S. Census Bureau requests authorization from the Office of Management and Budget to conduct the 2004 Overseas Enumeration Test. In response to Congressional direction and stakeholder inquiries and interest, the Census Bureau has embarked on a research and evaluation program that will provide information regarding the feasibility of counting U.S. citizens living overseas and their dependents, including private U.S. citizens living overseas, as part of its 2010 Census data collection process.

The 2004 test will include U.S. citizens living in France, Kuwait, and Mexico, regardless of how long they have resided abroad (this does not include those on vacations or short business trips). People who are not U.S. citizens will not be included in the counts. France, Kuwait, and Mexico were selected as test sites based on several criteria such as geographic diversity, significant numbers of U.S. citizens, and estimates from administrative records that could be compared to the test census counts for evaluation purposes.

The 2004 Overseas Enumeration Test will be a “mixed-mode” test, which will employ the use of paper questionnaires and the Internet. For the respondent-initiated paper returns, the Census Bureau will provide questionnaires to U.S. citizens to pick up at embassies, consulates, and from organizations that serve Americans overseas. Questionnaires can be returned by mail or completed via the Internet.

The Census Bureau is developing a comprehensive communications strategy, consisting of a marketing and promotional campaign that will address educating overseas Americans about the overseas enumeration test, motivating participation, and reaching them through local venues such as radio and print media.

The objectives of the 2004 Overseas Enumeration Test are to determine the feasibility, quality and cost of collecting data from U.S. citizens living overseas. The results of the 2004 Overseas Enumeration Test will be used to provide information and recommendations to inform a test in 2006. If Congress decides to include an expanded overseas enumeration in the 2010 census, a “dress rehearsal” would be conducted in 2008.

Affected Public: Individuals or households.

Frequency: One-time.

Respondent's Obligation: Mandatory.

Legal Authority: Title 13 U.S.C., Sections 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: August 26, 2003.
Madeleine Clayton,
Management Analyst, Office of the Chief Information Officer.

[FR Doc. 03-22243 Filed 8-29-03; 8:45 am]

BILLING CODE 3510-07-P